DEPARTMENT OF THE INTERIOR

Bureau of Land Management

[LLWO3200000-L19900000.PP0000]

Renewal of Approved Information Collection

AGENCY: Bureau of Land Management, Interior.

ACTION: 60-Day notice and request for comments.

SUMMARY: In compliance with the Paperwork Reduction Act, the Bureau of Land Management (BLM) invites public comments on, and plans to request approval to continue, the collection of information for the regulations at 43 CFR Parts 3832 through 3838. These regulations pertain to the location, recording, and maintenance of mining claims and sites. The Office of Management and Budget (OMB) has assigned control number 1004-0114 to this information collection.

DATES: Please submit comments on the proposed information collection by August 5, 2013.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0114” regardless of the form of your comments.

FOR FURTHER INFORMATION CONTACT: Sonia Santillan, at 202-912-7123. Persons who use a telecommunication device for the deaf (TDD) may call the Federal Information Relay Service (FIRS) at 1-800-877-8339, to leave a message for Ms. Santillan.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Recordation of Location Notices and Mining Claims; Payment of Fees (43 CFR Parts 3832-3838).

OMB Control Number: 1004-0114.

Summary: The Bureau of Land Management (BLM) seeks to renew the previously approved information collection for the regulations at 43 CFR Parts 3832 through 3838. These regulations pertain to the location, recording, and maintenance of mining claims and sites, in accordance with the General Mining Law (30 U.S.C. 22-54), Section 314 of the Federal Land Policy and Management Act (FLPMA) (43 U.S.C. 1744), and certain other statutes pertaining to specific Federal lands, and the Stock Raising Homestead Act (43 U.S.C. 299 and 301).

Frequency of Collection: On occasion, except Form 3830-2 (which may be filed annually) and annual FLPMA documents (which are required to be filed annually).

Forms: Form 3830-2, Maintenance Fee Waiver Certification; and Form 3830-3, Notice of Intent to Locate a Lode or Placer Mining Claim(s) and/or a Tunnel Site(s) on Lands Patented under the Stock Raising Homestead Act of 1916, As Amended by the Act of April 16, 1993.

Description of Respondents: Mining claimants.

Estimated Annual Responses: 121,019.

Estimated Annual Burden Hours: 59,896.

Estimated Annual Non-Hour Costs: $922,720.

The estimated annual burdens are itemized in the following table:

Type of response | Number of responses | Time per response (minutes) | Total hours (column B × column C)
A. | B. | C. | D.
Notice of Intent to Locate Under the Stock Raising Homestead Act (43 CFR Part 3838) Form 3830-3 | 2 | 30 | 1
Locating Mining Claims or Sites (43 CFR Part 3832) | 50,330 | 30 | 25,165
Recording a New Location Notice (43 CFR Part 3833, Subpart A) | 50,330 | 30 | 25,165
Amending a Location Notice (43 CFR Part 3833, Subpart B) | 3,678 | 30 | 1,839
Transfers of Interest (43 CFR Part 3833, Subpart C) and Acquiring a Delinquent Co-Claimant's Interests in a Mining Claim or Site (43 CFR Part 3837) | 1,572 | 30 | 786
Waiver from Annual Maintenance Fee (43 CFR Part 3835, Subpart A) Form 3830-2 and/or nonform data | 3,681 | 20 | 1,227
Annual FLPMA Documents (43 CFR part 3835, subpart C) Form 3830-4 | 11,416 | 20 | 5,708
Deferring Assessment Work (43 CFR Part 3836, Subpart B) | 10 | 30 | 5
Totals | 121,019 |  | 59,896

Jean Sonneman,
Information Collection Clearance Officer, Bureau of Land Management.

[FR Doc. 2013-13305 Filed 6-4-13; 8:45 am]

BILLING CODE 4310-84-P